DEPARTMENT OF ENERGY

Federal Energy Regulatory Commission

Combined Notice of Filings #1

Take notice that the Commission received the following exempt wholesale generator filings:

Docket Numbers: EG24-98-000.

Applicants: Three Rivers District Energy, LLC.

Description: Three Rivers District Energy, LLC submits Notice of Self-Certification of Exempt Wholesale Generator Status.

Filed Date: 1/30/24.

Accession Number: 20240130-5266.

Comment Date: 5 p.m. ET 2/20/24.

Docket Numbers: EG24-99-000.

Applicants: Great Kiskadee Storage, LLC.

Description: Great Kiskadee Storage, LLC submits Notice of Self-Certification of Exempt Wholesale Generator Status.

Filed Date: 1/31/24.

Accession Number: 20240131-5322.

Comment Date: 5 p.m. ET 2/21/24.

Take notice that the Commission received the following electric rate filings:

Docket Numbers: ER10-1437-015.

Applicants: Tampa Electric Company.

Description: Notice of Change in Status of Tampa Electric Company.

Filed Date: 1/30/24.

Accession Number: 20240130-5270.

Comment Date: 5 p.m. ET 2/20/24.

Docket Numbers: ER10-2042-051; ER10-1862-044; ER10-1863-013; ER10-1893-044; ER10-1934-044; ER10-1938-045; ER10-1942-042; ER10-2985-048; ER10-3049-049; ER10-3051-049; ER11-4369-029; ER16-2218-030; ER17-696-030; ER23-944-007.

Applicants: Calpine Community Energy, LLC, Calpine Energy Solutions, LLC, North American Power Business, LLC, North American Power and Gas, LLC, Champion Energy, LLC, Champion Energy Services, LLC, Champion Energy Marketing LLC, Calpine Construction Finance Co., L.P., Calpine Power America—CA, LLC, CES Marketing IX, LLC, CES Marketing X, LLC, Pine Bluff Energy, LLC, Power Contract Financing, L.L.C., Calpine Energy Services, L.P.

Description: Notice of Change in Status of Calpine Energy Services, L.P., et al.

Filed Date: 1/30/24.

Accession Number: 20240130-5268.

Comment Date: 5 p.m. ET 2/20/24.

Docket Numbers: ER13-2386-009; ER10-2847-008; ER14-963-008; ER23-1015-001; ER23-1016-001; ER23-1017-001; ER23-1018-001; ER23-2750-001; ER23-2751-001; ER23-2752-001.

Applicants: White Rock Wind West, LLC, White Rock Wind East, LLC, Horizon Hill Wind, LLC, TransAlta Energy Marketing (U.S.) .Inc., TransAlta Energy Marketing Corp., Big Level Wind LLC, Antrim Wind Energy LLC, TransAlta Wyoming Wind LLC, TransAlta Centralia Generation LLC, Lakeswind Power Partners, LLC.

Description: Notice of Non-Material Change in Status of Lakeswind Power Partners, LLC, et al.

Filed Date: 1/30/24.

Accession Number: 20240130-5269.

Comment Date: 5 p.m. ET 2/20/24.

Docket Numbers: ER15-762-021; ER10-3120-015; ER10-3128-015; ER10-3136-015; ER10-3145-016; ER11-2701-017; ER15-1579-019; ER15-1582-020; ER15-1914-021; ER15-2680-017; ER16-468-015; ER16-474-016; ER16-890-016; ER16-1255-018; ER16-1738-015; ER16-1901-015; ER16-1955-015; ER16-1956-015; ER16-1973-015; ER16-2201-014; ER16-2224-014; ER16-2578-015; ER17-306-014; ER17-544-014; ER17-1864-013; ER17-1871-013; ER17-1909-013; ER18-1667-010; ER18-2492-009; ER19-846-010; ER19-847-010; ER19-1179-006; ER19-1473-005; ER20-1629-005; ER20-2065-005; ER20-2066-005; ER20-2519-004; ER21-1488-004; ER21-2156-005; ER21-2766-004; ER22-799-005; ER23-48-003; ER23-937-002; ER23-1165-001; ER23-1319-002; ER23-1589-002; ER23-1668-003; ER23-1669-003; ER23-2440-001; ER23-2441-002; ER24-55-001.

Applicants: Silver Peak Energy, LLC, Chevelon Butte RE II LLC, McFarland Solar B, LLC, Raceway Solar 1, LLC,Estrella Solar, LLC,AES ES Westwing, LLC, Baldy Mesa Solar, LLC, McFarland Solar A, LLC, Chevelon Butte RE LLC, West Line Solar, LLC, Lancaster Area Battery Storage, LLC, Central Line Solar, LLC, Antelope Expansion 1B, LLC, Luna Storage, LLC, East Line Solar, LLC, Antelope Expansion 3B, LLC, Antelope Expansion 3A, LLC, AES ES Alamitos, LLC, AES Alamitos Energy, LLC, AES ES Gilbert, LLC, San Pablo Raceway, LLC, Antelope DSR 3, LLC, FTS Master Tenant 2, LLC, Antelope Expansion 2, LLC, Bayshore Solar C, LLC, Bayshore Solar B, LLC, Bayshore Solar A, LLC, Beacon Solar 1, LLC, Beacon Solar 3, LLC, North Lancaster Ranch LLC, Solverde 1, LLC, Antelope DSR 1, LLC, Western Antelope Blue Sky Ranch B LLC, Western Antelope Dry Ranch LLC, Antelope DSR 2, LLC, Elevation Solar C LLC, Beacon Solar 4, LLC, Antelope Big Sky Ranch LLC, Summer Solar LLC, Central Antelope Dry Ranch C LLC, FTS Master Tenant 1, LLC, Sandstone Solar LLC, 87RL 8me LLC, 65HK 8me LLC, 67RK 8me LLC, Mountain View Power Partners IV, LLC, AES Alamitos, LLC, Mountain View Power Partners, LLC, AES Redondo Beach, L.L.C., AES Huntington Beach, L.L.C., Sierra Solar Greenworks LLC.

Description: Notice of Change in Status of Sierra Solar Greenworks LLC, et al.

Filed Date: 1/30/24.

Accession Number: 20240130-5229.

Comment Date: 5 p.m. ET 2/20/24.

Docket Numbers: ER18-315-002; ER18-2178-002.

Applicants: Holloman Lessee, LLC, Wildwood Lessee, LLC.

Description: Notice of Non-Material Change in Status of Wildwood Lessee, LLC, et al.

Filed Date: 1/30/24.

Accession Number: 20240130-5238.

Comment Date: 5 p.m. ET 2/20/24.

Docket Numbers: ER19-2399-003.

Applicants: Caden Energix Hickory LLC.

Description: Notice of Non-Material Change in Status of Caden Energix Hickory LLC.

Filed Date: 1/31/24.

Accession Number: 20240131-5095.

Comment Date: 5 p.m. ET 2/21/24.

Docket Numbers: ER22-15-001; ER23-31-001.

Applicants: Pattersonville Solar Facility LLC, ELP Stillwater Solar, LLC.

Description: Notice of Non-Material Change in Status of ELP Stillwater Solar, LLC, et al.

Filed Date: 1/30/24.

Accession Number: 20240130-5236.

Comment Date: 5 p.m. ET 2/20/24.

Docket Numbers: ER22-983-007.

Applicants: ISO New England Inc., New England Power Pool Participants Committee.

Description: Compliance filing: ISO New England Inc. submits tariff filing per 35: ISO-NE Further Filing Re Order No. 2222 Compliance to be effective 11/1/2026.

Filed Date: 1/31/24.

Accession Number: 20240131-5191.

Comment Date: 5 p.m. ET 2/21/24.

Docket Numbers: ER22-1439-007; ER22-1440-007; ER22-1441-007; ER22-1442-005.

Applicants: EdSan 1B Group 3, LLC, EdSan 1B Group 2, LLC, EdSan 1B Group 1 Sanborn, LLC, EdSan 1B Group 1 Edwards, LLC.

Description: Notice of Non-Material Change in Status of EdSan 1B Group 1 Edwards, LLC, et al.

Filed Date: 1/30/24.

Accession Number: 20240130-5233.

Comment Date: 5 p.m. ET 2/20/24.

Docket Numbers: ER23-2407-001.

Applicants: Strauss Wind, LLC.

Description: Tariff Amendment: Amendment to 1 to be effective 2/1/2024.

Filed Date: 1/31/24.

Accession Number: 20240131-5155.

Comment Date: 5 p.m. ET 2/21/24.

Docket Numbers: ER24-1055-000.

Applicants: Midcontinent Independent System Operator, Inc.

Description: 205(d) Rate Filing: 2024-01-30_Att X, Generator Replacement Process Improvement to be effective 3/31/2024.

Filed Date: 1/30/24.

Accession Number: 20240130-5216.

Comment Date: 5 p.m. ET 2/20/24.

Docket Numbers: ER24-1056-000.

Applicants: NorthWestern Corporation.

Description: Tariff Amendment: Cancellation of South Dakota Rate Schedules Tariff ID42 to be effective 1/31/2024.

Filed Date: 1/30/24.

Accession Number: 20240130-5237.

Comment Date: 5 p.m. ET 2/20/24.

Docket Numbers: ER24-1057-000.

Applicants: FirstEnergy Pennsylvania Electric Company, PJM Interconnection, L.L.C.

Description: 205(d) Rate Filing: FirstEnergy Pennsylvania Electric Company submits tariff filing per 35.13(a)(2)(iii): FE PA submits Amended IA, SA No. 4578 re: FirstEnergy Reorganization to be effective 1/1/2024.

Filed Date: 1/30/24.

Accession Number: 20240130-5246.

Comment Date: 5 p.m. ET 2/20/24.

Docket Numbers: ER24-1058-000.

Applicants: FirstEnergy Pennsylvania Electric Company.

Description: 205(d) Rate Filing: 2024-01-31—Revisions to former West Penn Power Borderline Agreements to be effective 1/1/2024.

Filed Date: 1/31/24.

Accession Number: 20240131-5000.

Comment Date: 5 p.m. ET 2/21/24.

Docket Numbers: ER24-1059-000.

Applicants: FirstEnergy Pennsylvania Electric Company.

Description: 205(d) Rate Filing: 2024-01-31—Interconnection Agreement between Ohio Edison and former Penn Power to be effective 1/1/2024.

Filed Date: 1/31/24.

Accession Number: 20240131-5001.

Comment Date: 5 p.m. ET 2/21/24.

Docket Numbers: ER24-1060-000.

Applicants: FirstEnergy Pennsylvania Electric Company.

Description: 205(d) Rate Filing: 2024-01-31—Filing of Borderline Agreement between Potomac Edison and FE PA to be effective 1/1/2024.

Filed Date: 1/31/24.

Accession Number: 20240131-5002.

Comment Date: 5 p.m. ET 2/21/24.

Docket Numbers: ER24-1062-000.

Applicants: New England Power Pool Participants Committee.

Description: 205(d) Rate Filing: Feb 2024 Membership Filing to be effective 1/1/2024.

Filed Date: 1/31/24.

Accession Number: 20240131-5009.

Comment Date: 5 p.m. ET 2/21/24.

Docket Numbers: ER24-1063-000.

Applicants: Midcontinent Independent System Operator, Inc.

Description: 205(d) Rate Filing: 2024-01-31_SA 3497 Duke Energy-Fairbanks Solar Energy 2nd Rev GIA (J829) to be effective 1/24/2024.

Filed Date: 1/31/24.

Accession Number: 20240131-5053.

Comment Date: 5 p.m. ET 2/21/24.

Docket Numbers: ER24-1064-000.

Applicants: Branscomb Solar, LLC.

Description: Compliance filing: Notice of Non-Material Change in Status and Revised Market-Based Rate Tariff to be effective 2/1/2024.

Filed Date: 1/31/24.

Accession Number: 20240131-5063.

Comment Date: 5 p.m. ET 2/21/24.

Docket Numbers: ER24-1065-000.

Applicants: Darby Solar, LLC.

Description: Compliance filing: Notice of Non-Material Change in Status and Revised Market-Based Rate Tariff to be effective 2/1/2024.

Filed Date: 1/31/24.

Accession Number: 20240131-5066.

Comment Date: 5 p.m. ET 2/21/24.

Docket Numbers: ER24-1066-000.

Applicants: Dry Bridge Solar 1, LLC.

Description: Compliance filing: Notice of Non-Material Change in Status and Revised Market-Based Rate Tariff to be effective 2/1/2024.

Filed Date: 1/31/24.

Accession Number: 20240131-5067.

Comment Date: 5 p.m. ET 2/21/24.

Docket Numbers: ER24-1067-000.

Applicants: Dry Bridge Solar 2, LLC.

Description: Compliance filing: Dry Bridge Solar 2, LLC submits tariff filing per 35: Notice of Non-Material Change in Status and Revised Market-Based Rate Tariff to be effective 2/1/2024.

Filed Date: 1/31/24.

Accession Number: 20240131-5068.

Comment Date: 5 p.m. ET 2/21/24.

Docket Numbers: ER24-1068-000.

Applicants: Dry Bridge Solar 3, LLC.

Description: Compliance filing: Notice of Non-Material Change in Status and Revised Market-Based Rate Tariff to be effective 2/1/2024.

Filed Date: 1/31/24.

Accession Number: 20240131-5069.

Comment Date: 5 p.m. ET 2/21/24.

Docket Numbers: ER24-1069-000.

Applicants: Dry Bridge Solar 4, LLC.

Description: Compliance filing: Notice of Non-Material Change in Status and Revised Market-Based Rate Tariff to be effective 2/1/2024.

Filed Date: 1/31/24.

Accession Number: 20240131-5071.

Comment Date: 5 p.m. ET 2/21/24.

Docket Numbers: ER24-1070-000.

Applicants: ELP Stillwater Solar, LLC.

Description: Compliance filing: Notice of Non-Material Change in Status and Revised Market-Based Rate Tariff to be effective 2/1/2024.

Filed Date: 1/31/24.

Accession Number: 20240131-5072.

Comment Date: 5 p.m. ET 2/21/24.

Docket Numbers: ER24-1071-000.

Applicants: Consumers Energy Company.

Description: 205(d) Rate Filing: Consumers Energy Company submits tariff filing per 35.13(a)(2)(iii: Amendment No. 4 to Contract & RS with Alpena Power Company to be effective 4/1/2024.

Filed Date: 1/31/24.

Accession Number: 20240131-5074.

Comment Date: 5 p.m. ET 2/21/24.

Docket Numbers: ER24-1072-000.

Applicants: Grissom Solar, LLC.

Description: Compliance filing: Notice of Non-Material Change in Status and Revised Market-Based Rate Tariff to be effective 2/1/2024.

Filed Date: 1/31/24.

Accession Number: 20240131-5076.

Comment Date: 5 p.m. ET 2/21/24.

Docket Numbers: ER24-1073-000.

Applicants: Janis Solar, LLC.

Description: Compliance filing: Notice of Non-Material Change in Status and Revised Market-Based Rate Tariff to be effective 2/1/2024.

Filed Date: 1/31/24.

Accession Number: 20240131-5078.

Comment Date: 5 p.m. ET 2/21/24.

Docket Numbers: ER24-1074-000.

Applicants: MN8 Energy Marketing LLC.

Description: Compliance filing: Notice of Non-Material Change in Status and Revised Market-Based Rate Tariff to be effective 2/1/2024.

Filed Date: 1/31/24.

Accession Number: 20240131-5080.

Comment Date: 5 p.m. ET 2/21/24.

Docket Numbers: ER24-1075-000.

Applicants: Pattersonville Solar Facility LLC.

Description: Compliance filing: Notice of Non-Material Change in Status and Revised Market-Based Rate Tariff to be effective 2/1/2024.

Filed Date: 1/31/24.

Accession Number: 20240131-5082.

Comment Date: 5 p.m. ET 2/21/24.

Docket Numbers: ER24-1076-000.

Applicants: Puckett Solar, LLC.

Description: Compliance filing: Notice of Non-Material Change in Status and Revised Market-Based Rate Tariff to be effective 2/1/2024.

Filed Date: 1/31/24.

Accession Number: 20240131-5084.

Comment Date: 5 p.m. ET 2/21/24.

Docket Numbers: ER24-1077-000.

Applicants: Regan Solar, LLC.

Description: Compliance filing: Notice of Non-Material Change in Status and Revised Market-Based Rate Tariff to be effective 2/1/2024.

Filed Date: 1/31/24.

Accession Number: 20240131-5085.

Comment Date: 5 p.m. ET 2/21/24.

Docket Numbers: ER24-1078-000.

Applicants: Toms River Merchant Solar, LLC.

Description: Compliance filing: Notice of Non-Material Change in Status and Revised Market-Based Rate Tariff to be effective 2/1/2024.

Filed Date: 1/31/24.

Accession Number: 20240131-5088.

Comment Date: 5 p.m. ET 2/21/24.

Docket Numbers: ER24-1079-000.

Applicants: Toms River Net Meter Solar, LLC.

Description: Compliance filing: Notice of Non-Material Change in Status and Revised Market-Based Rate Tariff to be effective 2/1/2024.

Filed Date: 1/31/24.

Accession Number: 20240131-5092.

Comment Date: 5 p.m. ET 2/21/24.

Docket Numbers: ER24-1080-000.

Applicants: Richfield Solar Energy LLC.

Description: 205(d) Rate Filing: Revised Market-Based Rate Tariff Filing to be effective 4/1/2024.

Filed Date: 1/31/24.

Accession Number: 20240131-5094.

Comment Date: 5 p.m. ET 2/21/24.

Docket Numbers: ER24-1081-000.

Applicants: Solar Star California XLI, LLC.

Description: Compliance filing: Notice of Change in Category Seller Status and Revised Market-Based Rate Tariff to be effective 2/1/2024.

Filed Date: 1/31/24.

Accession Number: 20240131-5098.

Comment Date: 5 p.m. ET 2/21/24.

Docket Numbers: ER24-1082-000.

Applicants: Imperial Valley Solar 2, LLC.

Description: Compliance filing: Notice of Change in Category Seller Status and Revised Market-Based Rate Tariff to be effective 2/1/2024.

Filed Date: 1/31/24.

Accession Number: 20240131-5102.

Comment Date: 5 p.m. ET 2/21/24.

Docket Numbers: ER24-1083-000.

Applicants: Golden Fields Solar I, LLC.

Description: Compliance filing: Notice of Change in Category Seller Status and Revised Market-Based Rate Tariff to be effective 2/1/2024.

Filed Date: 1/31/24.

Accession Number: 20240131-5104.

Comment Date: 5 p.m. ET 2/21/24.

Docket Numbers: ER24-1084-000.

Applicants: Evergy Metro, Inc.

Description: 205(d) Rate Filing: EMe Supplemental Rate Schedule 140 Filing to be effective 2/1/2024.

Filed Date: 1/31/24.

Accession Number: 20240131-5121.

Comment Date: 5 p.m. ET 2/21/24.

Docket Numbers: ER24-1085-000.

Applicants: PPL Electric Utilities Corporation, PJM Interconnection, L.L.C.

Description: 205(d) Rate Filing: PPL Electric Utilities Corporation submits tariff filing per 35.13(a)(2)(iii): PPL Electric submits Amended Coordination Agreement No. 1022 to be effective 1/3/2024.

Filed Date: 1/31/24.

Accession Number: 20240131-5130.

Comment Date: 5 p.m. ET 2/21/24.

Docket Numbers: ER24-1086-000.

Applicants: FirstEnergy Pennsylvania Electric Company, PJM Interconnection, L.L.C.

Description: 205(d) Rate Filing: FirstEnergy Pennsylvania Electric Company submits tariff filing per 35.13(a)(2)(iii: FE PA submits Amended IA, SA No. 4119 re: FirstEnergy Reorganization to be effective 1/1/2024.

Filed Date: 1/31/24.

Accession Number: 20240131-5140.

Comment Date: 5 p.m. ET 2/21/24.

Docket Numbers: ER24-1087-000.

Applicants: 2018 ESA Project Company, LLC.

Description: Compliance filing: Notice of Change in Status and Revised Market-Based Rate Tariff to be effective 2/1/2024.

Filed Date: 1/31/24.

Accession Number: 20240131-5158.

Comment Date: 5 p.m. ET 2/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 31, 2024.
Debbie-Anne A. Reese,
Acting Secretary.

[FR Doc. 2024-02381 Filed 2-5-24; 8:45 am]

BILLING CODE 6717-01-P